DEPARTMENT OF LABOR

Employment and Training Administration

[TA-W-53,321]

Charter Fabrics, Inc.; New York, NY; Dismissal of Application for Reconsideration

Pursuant to 29 CFR 90.18(C) an application for administrative reconsideration was filed with the Director of the Division of Trade Adjustment Assistance for workers at Charter Fabrics, Inc., New York, New York. The application contained no new substantial information which would bear importantly on the Department's determination. Therefore, dismissal of the application was issued.

TA-W-53,321; Charter Fabrics, Inc. New York, New York (November 7, 2005).

Signed at Washington, DC, this 8th day of November, 2005.
Erica R. Cantor,
Director, Division of Trade Adjustment Assistance.

[FR Doc. E5-6316 Filed 11-15-05; 8:45 am]

BILLING CODE 4510-30-P